DEPARTMENT OF TRANSPORTATION

Research and Special Programs Administration

[Docket No. RSPA-04-19469; Notice 1]

Pipeline Safety: Petition for Waiver; Duke Energy Gas Transmission Company (OH)

AGENCY: Research and Special Programs Administration (RSPA), DOT.

ACTION: Notice; petition for waiver.

SUMMARY: Duke Energy Gas Transmission Company (DEGT) petitioned the Research and Special Programs Administration's (RSPA) Office of Pipeline Safety (OPS) for a waiver of compliance with provisions of 49 CFR 192.611(a), which requires pipeline operators to confirm or revise the maximum allowable operating pressure (MAOP) of their pipelines after a class location change. DEGT proposes an alternative set of risk control activities in lieu of a reduction in pressure or pressure testing of selected pipeline segments in Ohio that have changed from Class 1 to Class 2.

DATES: Persons interested in submitting written comments on the waiver proposed in this notice must do so by January 6, 2005. Late-filed comments will be considered so far as practicable.

ADDRESSES: You may submit written comments by mailing or delivering an original and two copies to the Dockets Facility, U.S. Department of Transportation, Room PL-401, 400 Seventh Street, SW., Washington, DC 20590-0001. The Dockets Facility is open from 10 a.m. to 5 p.m., Monday through Friday, except on Federal holidays when the facility is closed. Alternatively, you may submit written comments to the docket electronically at the following Web address: http://dms.dot.gov.

All written comments should identify the docket and notice numbers stated in the heading of this notice. Anyone who wants confirmation of mailed comments must include a self-addressed stamped postcard. To file written comments electronically, after logging on to http://dms.dot.gov, click on “Comment/Submissions.” You can also read comments and other material in the docket at http://dms.dot.gov. General information about our pipeline safety program is available at http://ops.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: James Reynolds by phone at 202-366-2786, by fax at 202-366-4566, by mail at U.S. DOT, Research and Special Programs Administration, Office of Pipeline Safety, 400 Seventh Street, SW., Washington, DC 20590, or by e-mail at james.reynolds@rspa.dot.gov.

SUPPLEMENTARY INFORMATION:

1. Background

Duke Energy Gas Transmission Company (DEGT) petitioned the Research and Special Programs Administration's Office of Pipeline Safety (RSPA/OPS) for a waiver from compliance with § 192.611(a) for selected gas transmission pipeline segments in Ohio. DEGT asks for a waiver from the requirement to revise the maximum allowable operating pressure (MAOP) or upgrade pipeline segments after a class location change. DEGT proposes to conduct alternative risk control activities based on the principles and requirements of the integrity management program in lieu of this requirement and asserts that these alternative risk control activities will provide an equal or higher level of safety than that currently provided by the pipeline safety regulations.

The Federal pipeline safety regulations at § 192.609 require a gas pipeline operator to complete a class location change study whenever it believes an increase in population density may have caused a change in class location as defined in § 192.5. If a new class location is confirmed, the operator is required to either reduce pressure or replace the pipe to lower pipe wall stress in compliance with § 192.611(a). Section 192.5(a)(1) defines a “class location unit” as an onshore area extending 220 yards (200 meters) on either side of the centerline of any continuous one-mile length of pipeline. The Class Location for any class location unit is determined according to the following criteria in § 192.5(b):

Class 1—10 or fewer buildings intended for human occupancy;

Class 2—more than 10 but less than 46 buildings intended for human occupancy;

Class 3—46 or more buildings intended for human occupancy, or areas where a pipeline lies within 100 yards (91 meters) of either a building or a small, well-defined outside area (such as a playground, recreation area, outdoor theater, or other place of public assembly) that is occupied by 20 or more persons on at least 5 days a week for 10 weeks in any 12-month period;

Class 4—buildings with four or more stories above ground are prevalent.

The pipeline safety regulations impose more stringent design and operation requirements as the class location increases. When a class location changes to a higher class (e.g., from Class 1 to Class 2) and the hoop stress corresponding to the established MAOP of the segment is not commensurate with the present class location, the MAOP must be confirmed by pressure test or revised using one of the options specified in § 192.611(a). An operator may avoid reducing the pressure if a previous pressure test is adequate to support operation at the existing pressure in the new class location, but the corresponding hoop stress may not exceed 72 percent specified maximum yield strength (SMYS) of the pipe in Class 2 locations, 60 percent SMYS in Class 3 locations, or 50 percent SMYS in Class 4 locations. Alternatively, the operator may need to reduce the pressure or replace the pipe with new pipe.

On June 29, 2004, RSPA/OPS published a Notice announcing the criteria it will use in considering class location change waiver applications (69 FR 38948). The criteria document has been placed in this docket and is the guideline RSPA/OPS will use to consider requests for waivers from the requirements of 49 CFR 192.611. RSPA/OPS will use these criteria to evaluate waiver applications submitted by natural gas pipeline operators whose pipeline segments have experienced a change in class location.

2. DEGT's Proposed Waiver

DEGT's request for a waiver of the requirements of § 192.611(a) is specific to two parallel line segments on Line 10 and Line 15, which are part of its Texas Eastern Pipeline System in the State of Ohio. These segments are located within DEGT's:

Wheelersburg Compressor Station Discharge: Milepost (MP) 563.72-620.70

Line 10: MP 568.99-569.13.

Line 15: MP 569.41-569.55.

The pipelines are 30-inch in diameter and the class locations have changed from Class 1 to Class 2. If this waiver is granted, DEGT intends to apply the alternative set of risk reduction strategies to any future sites changing from Class 1 to Class 2 on the same compressor station discharges of Lines 10 and 15, provided these new sites satisfy the technical requirements of the waiver.

Lines 10 and Lines 15 were hydrotested and all welds were X-rayed at installation in 1952 and 1957, respectively, to 100% SMYS. DEGT has internally inspected each of these pipelines. DEGT inspected Line 10 on January 24, 1986, and again on May 13, 1997. DEGT inspected Line 15 on January 27, 1986, and again on May 1, 2002. Both lines were internally inspected using a standard resolution in-line inspection (ILI) tool. All cathodic protection readings on these two pipelines either meet or exceed the minimum requirements of 49 CFR Part 192.

The proposed DEGT waiver segments have changed from Class 1 to Class 2 due to construction of additional buildings intended for human occupancy in the class location units. DEGT believes its alternative to § 192.611(a) will provide a level of safety in excess of that afforded by the pipeline safety regulations at 49 CFR Part 192.

3. DEGT's Proposed Alternative

In lieu of compliance with § 192.611(a), DEGT proposes to conduct the following activities to ensure the integrity of the two pipeline segments included in this waiver request and any future sites on the Wheelersburg Compressor Station discharge changing from Class 1 to Class 2:

• All site(s) covered by waiver have been in-line inspected at least twice between 1986 and 2002;

• All actionable anomalies within the site(s) have either been remediated or are scheduled to be investigated, and subsequently remediated, if necessary, as defined in ASME B31.8S and DEGT Pipeline Repair procedures. A schedule of remedial measures to be performed on future waiver sites will be submitted to OPS headquarters and OPS regional offices;

• For future sites covered by this waiver, DEGT will use tools and techniques developed through the activities described in the waiver request for the identification, classification and possible remediation of dents; and

• The site(s) must pass a hydrostatic test to a pressure of at least 125% of the MAOP of the pipeline. DEGT will make available to RSPA/OPS and the Ohio Public Utilities Commission (OH-PUC) a report of all hydrostatic test failures experienced at this test pressure.

DEGT has already satisfied the above criteria for the current pipeline segments proposed in this waiver request. DEGT commits to provide the OPS's Central Region and the OH-PUC with sufficient notice to enable RSPA/OPS and OH-PUC staff to attend and participate in all risk assessment activities.

In addition, DEGT has proposed the following schedule of near-term and long-term activities to help maintain pipeline integrity on the proposed waiver segments.

In 2004—

• Review the 2002 ILI results for Line 15 for any remaining actionable anomalies. Schedule these anomalies for investigation/remediation as defined in 49 CFR Part 192, Subpart O, ASME B31.8S, and DEGT Pipeline Repair Procedures.

• Depth of cover survey to be conducted in the waiver sites.

In 2005—

• Perform an in-line inspection using a high-resolution magnetic flux leakage tool and a geometry tool on Line 10. All actionable anomalies found through the in-line inspection will be investigated/remediated on as defined in 49 CFR Part 192, Subpart O, ASME B31.8S, and DEGT Pipeline Repair Procedures.

• Perform external corrosion direct assessment (ECDA) on the waiver sites of both lines. A minimum of one direct examination of each line will be performed.

• Perform stress corrosion cracking direct assessment on any pipe exposed as part of the work in support of this waiver.

Beyond 2005—

• Perform system integrity re-inspections in accordance with 49 CFR Part 192 Subpart O requirements.

4. Additional Considerations

In an October 7 letter, the Office of Pipeline Safety's Central Region office requested additional information to assist in evaluation of DEGT's waiver request:

Information on the timing of the class location change;

• Information demonstrating the condition of the pipeline coating;

• The results of depth of cover surveys;

• Description of any failures that occurred during hydrostatic testing;

• The results of in-line inspections; and

• Activities to address potential integrity issues associated with the hydrogen induced damage at hard spots after the November 2, 2003, failure on Line 15 in Kentucky.

This letter and any responses from DEGT will be placed in the docket for this Federal waiver request.

In addition, as part of its consideration of DEGT's waiver request, RSPA/OPS will also consider the cause(s) and contributing factor(s) to the November 2, 2003, failure of DEGT's Line 15 near the Owingsville Compressor Station in Bath County, Kentucky. The pipe used in Line 15 in Bath County, Kentucky and Line 15 in Scioto County, Ohio, were both manufactured by A.O. Smith and are of the same vintage.

5. Opportunity for Public Comments

This notice provides an opportunity for public comment on the DEGT waiver proposal. Comments should address whether or not DEGT's proposal complies with the criteria for consideration of waiver applications and any other issues regarding DEGT's proposed waiver.

After the comment period has ended, RSPA/OPS will evaluate the DEGT proposal and will consider all comments received by the deadline. RSPA/OPS will publish a subsequent Federal Register notice granting or denying DEGT's proposed waiver of § 192.611(a).

Authority: 49 U.S.C. 60118(c) and 49 CFR 1.53.

Issued in Washington, DC, on December 1, 2004.
Theodore L. Willke,
Deputy Associate Administrator for Pipeline Safety.

[FR Doc. 04-26811 Filed 12-6-04; 8:45 am]

BILLING CODE 4910-60-P